DEPARTMENT OF ENERGY

Federal Energy Regulatory Commission

[Docket No. CP08-37-000]

Questar Pipeline Company; Notice of Request Under Blanket Authorization

December 20, 2007.

Take notice that on December 17, 2007, Questar Pipeline Company, (Questar), 180 East 100 South, Salt Lake City, Utah 84111, filed in Docket No. CP08-37-000, a prior notice request pursuant to sections 157.205 and 157.216 of the Federal Energy Regulatory Commission's regulations under the Natural Gas Act for authorization to abandon, by removal, the Skull Creek Compressor Station (Skull Creek) and appurtenant facilities, located in Sweetwater County, Wyoming, all as more fully set forth in the application, which is on file with the Commission and open to public inspection. The filing may also be viewed on the web at http://www.ferc.gov using the “eLibrary” link. Enter the docket number excluding the last three digits in the docket number field to access the document. For assistance, contact FERC at FERCOnlineSupport@ferc.gov or call toll-free, (886) 208-3676 or TYY, (202) 502-8659.

Questar proposes to abandon and relocate the two compressor units at Skull Creek to achieve a higher utilization from the assets. Questar states that the compressors will be at Greasewood in Rio Blanco County, Colorado, to deliver gas from Questar into the proposed White River Hub. Questar declares that as a result of changes over the years in natural gas markets, there is now only one firm contract utilizing Skull Creek, with that contract expiring April 30, 2008. Questar asserts that the firm customer has purchased replacement capacity, beginning in January 2008, on the Rockies Express Pipeline, which satisfies its capacity needs previously provided by Skull Creek. Questar estimates the cost to remove the Skull Creek facilities to be $500,000.

Any questions regarding the application should be directed to L. Bradley Burton, Manager, Federal Regulatory Affairs, Questar Pipeline Company, 180 East 100 South, P.O. 45360, Salt Lake City, Utah 84145-0360, call (801) 324-2459, fax (801) 324-5834, or by e-mail brad.burton@questar.com.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E7-25320 Filed 12-28-07; 8:45 am]

BILLING CODE 6717-01-P